DEPARTMENT OF THE INTERIOR

National Park Service

[NPS-WASO-NAGPRA-23582; PPWOCRADN0-PCU00RP14.R50000]

Notice of Intent To Repatriate Cultural Items: State Historical Society of North Dakota, Bismarck, ND

AGENCY: National Park Service, Interior.

ACTION: Notice.

SUMMARY: The State Historical Society of North Dakota, in consultation with the appropriate Indian Tribes or Native Hawaiian organizations, has determined that the cultural items listed in this notice meet the definition of sacred objects and objects of cultural patrimony. Lineal descendants or representatives of any Indian Tribe or Native Hawaiian organization not identified in this notice that wish to claim these cultural items should submit a written request to the State Historical Society of North Dakota. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the State Historical Society of North Dakota at the address in this notice by August 23, 2017.

ADDRESSES: Melissa Thompson, State Historical Society of North Dakota, 612 East Boulevard Avenue, Bismarck, ND 58505, telephone (701) 328-2691, email methompson@nd.gov.

SUPPLEMENTARY INFORMATION: Notice is here given in accordance with the Native American Graves Protection and Repatriation Act (NAGPRA), 25 U.S.C. 3005, of the intent to repatriate cultural items under the control of the State Historical Society of North Dakota, Bismarck, ND, that meet the definition of sacred objects, and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

On an unknown date, an unknown number of cultural items were removed from an unknown site in an unknown location. In August of 2016, a bison skull was found in the Museum Division storage space. The cultural item was found in a box dating to the 1950s that was used for storage of items in the possession of the State Historical Society of North Dakota (SHSND), but never formally accessioned or cataloged into the museum collection. Museum opinion is that the bison skull was placed in the storage box in the 1950s, but no other provenance is available. There is a label in the box that reads: “Fragments of buffalo skull found on the site of the final Sun Dance held by the Teton Sioux, and believed to be the skull used in that ceremony as the red paint applied to the buffalo skull in the Sun Dance is discernable on the specimen.” The sacred object/object of cultural patrimony is the broken partial skull of an old bison.

The buffalo skull was identified by Standing Rock Sioux of North & South Dakota tribal archeologist Kelly Morgan as belonging to the Teton Sioux and/or Lakota Sioux of the Oceti Sakowin (Seven Council Fires) that make up what is often referred to as the “Sioux Nation.” Their first reservation land was negotiated under the Treaty of Traverse des Sioux in 1851, and then initially reduced under the Treaty of 1858. These treaties were unilaterally abrogated by the United States Government after the U.S.-Dakota War of 1862, and Dakota people were force-marched and ethnically-cleansed from their Minnesota homeland in 1863. In 1873, the Standing Rock Indian reservation was established. The distinctive Dakota, Lakota, and Nakota identity is still pervasive at Standing Rock. The Standing Rock Sioux, as well as all other members of the Oceti Sakowin, practiced the seven sacred rites of the Dakota, Lakota, and Nakota nations. The Sun Dance is the third of the sacred rites, and is still practiced today. Skulls in the Sun Dance are used in the “Dragging of the Skulls” ceremony and as an altar in the dance. The red spot on the top of this bison's skull signifies that the skull was used in a Sun Dance ceremony.

Determinations Made by the State Historical Society of North Dakota

Officials of the State Historical Society of North Dakota have determined that:

• Pursuant to 25 U.S.C. 3001(3)(C), the one cultural item described above is a specific ceremonial object needed by traditional Native American religious leaders for the practice of traditional Native American religions by their present-day adherents.

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the sacred object/object of cultural patrimony and the Standing Rock Sioux Tribe of North & South Dakota.

Additional Requestors and Disposition

Lineal descendants or representatives of any Indian Tribe or Native Hawaiian organization not identified in this notice that wish to claim these cultural items should submit a written request with information in support of the claim to Melissa Thompson, State Historical Society of North Dakota, 612 East Boulevard Avenue, Bismarck, ND 58505, telephone (701) 328-2691, email methompson@nd.gov, by August 23, 2017. After that date, if no additional claimants have come forward, transfer of control of the sacred object/object of cultural patrimony to the Standing Rock Sioux Tribe of North & South Dakota may proceed.

The State Historical Society of North Dakota is responsible for notifying the Standing Rock Sioux Tribe of North & South Dakota and the Upper Sioux Community, Minnesota that this notice has been published.

Dated: June 15, 2017.
Melanie O'Brien,
Manager, National NAGPRA Program.

[FR Doc. 2017-15469 Filed 7-21-17; 8:45 am]

BILLING CODE 4312-52-P